DEPARTMENT OF VETERANS AFFAIRS

[OMB Control No. 2900-0227]

Agency Information Collection Activities Under OMB Review

AGENCY: Veterans Health Administration, Department of Veterans Affairs.

ACTION: Notice.

SUMMARY: In compliance with the Paperwork Reduction Act (PRA) of 1995 (44 U.S.C., 3501 et seq.), this notice announces that the Veterans Health Administration (VHA), Department of Veterans Affairs, has submitted the collection of information abstracted below to the Office of Management and Budget (OMB) for review and comment. The PRA submission describes the nature of the information collection and its expected cost and burden; it includes the actual data collection instrument.

DATES: Comments must be submitted on or before June 15, 2000.

FOR FURTHER INFORMATION OR A COPY OF THE SUBMISSION CONTACT: Denise McLamb, Information Management Service (045A4), Department of Veterans Affairs, 810 Vermont Avenue, NW., Washington, DC 20420, (202) 273-8030 or FAX (202) 273-5981. Please refer to “OMB Control No. 2900-0227.”

SUPPLEMENTARY INFORMATION: Title: Nation-wide Customer Satisfaction Surveys.

OMB Control Number: 2900-0227.

Type of Review: Reinstatement, with change, of a previously approved collection for which approval has expired.

Abstract: Executive Order 12862, Setting Customer Service Standards, requires Federal agencies and Departments to identify and survey its customers to determine the kind and quality of services they want and their level of satisfaction with existing services. VHA uses customer satisfaction surveys to gauge customer perceptions of VA services as well as customer expectations and desires. The results of these information collections lead to improvements in the quality of VHA service delivery by helping to shape the direction and focus of specific programs and services.

An agency may not conduct or sponsor, and a person is not required to respond to a collection of information unless it displays a currently valid OMB control number. The Federal Register Notice with a 60-day comment period soliciting comments on this collection of information was published on December 2, 1999 at pages 67627-67629.

Affected Public: Individuals or households.

Prosthetic Patient Satisfaction Survey, VA Form 10-0142B

Year | Number of respondents | Estimated burden hour (minutes) | Estimated annual burden | Frequency of response
2000 | 27,000 | 24 | 10,800 | Occasion
2001 | 27,000 | 24 | 10,800 | Occasion
2002 | 27,000 | 24 | 10,800 | Occasion

Prosthetics Blind Aid Phone Survey, VA Form 10-0142C

Year | Number of respondents | Estimated burden hour (minutes) | Estimated annual burden | Frequency of response
2000 | 1,900 | 30 | 950 | Occasion
2001 | 1,900 | 30 | 950 | Occasion
2002 | 1,900 | 30 | 950 | Occasion

Inpatient Satisfaction Survey_Mental Health Insert Included, VA Form 10-1465-1

Year | Number of respondents | Estimated burden hour (minutes) | Estimated annual burden | Frequency of response
2000 | 33,600 | 22.5 | 12,600 | Occasion
2001 | 33,600 | 22.5 | 12,600 | Occasion
2002 | 33,600 | 22.5 | 12,600 | Occasion

General Outpatient Satisfaction Survey, VA Form 10-1465-3

Year | Number of respondents | Estimated burden hour (minutes) | Estimated annual burden | Frequency of response
2000 | 48,000 | 15 | 12,000 | Occasion
2001 | 48,000 | 15 | 12,000 | Occasion
2002 | 48,000 | 15 | 12,000 | Occasion

General Outpatient Satisfaction Survey, VA Form 10-1465-3.

In addition to the above, VA Form 10-1465-3 will be sent to a selection of Gulf Era Outpatients.

Year | Number of respondents | Estimated burden hour (minutes) | Estimated annual burden | Frequency of response
2000 | 23,400 | 15 | 5,850 | Occasion
2001 | 23,400 | 15 | 5,850 | Occasion
2002 | 23,400 | 15 | 5,850 | Occasion

Spinal Cord Injury Satisfaction Survey, VA Form 10-1465-7

Year | Number of respondents | Estimated burden hour (minutes) | Estimated annual burden | Frequency of response
2000 | 2,686 | 30 | 1,343 | Occasion
2001 | 2,686 | 30 | 1,343 | Occasion
2002 | 2,686 | 30 | 1,343 | Occasion

Home Based Primary Care Satisfaction Survey, VA Form 10-1465-9

Year | Number of respondents | Estimated burden hour (minutes) | Estimated annual burden (hours) | Frequency of response
2000 | 3,876 | 15 | 969 | Occasion
2001 | 3,876 | 15 | 969 | Occasion
2002 | 3,876 | 15 | 969 | Occasion

Nutrition Analysis Satisfaction Survey, VA Form 10-5387

Year | Number of respondents | Estimated burden hour (minutes) | Estimated annual burden (hours) | Frequency of response
2000 | 137,600 | 2 | 4,587 | Occasion
2001 | 137,600 | 2 | 4,587 | Occasion
2002 | 137,600 | 2 | 4,587 | Occasion

Most customer satisfaction surveys will be recurring so that VHA can create ongoing measures of performance and to determine how well the agency meets customer service standards. Each collection of information will consist of the minimum amount of information necessary to determine customer needs and to evaluate VHA's performance. VHA expects a total annual burden of approximately 49,099 hours in 2000, 2001, and 2002.

The areas of concern to VHA and its customers may change over time, and it is important to have the ability to evaluate customer concerns quickly. OMB will be requested to grant generic clearance approval for a 3-year period to conduct customer satisfaction surveys and focus groups. Participation in the surveys will be voluntary and the generic clearance will not be used to collect information required to obtain or maintain eligibility for a VA program or benefit. In order to maximize the voluntary response rates, the information collection will be designed to make participation convenient, simple, and free of unnecessary barriers. Baseline data obtained through these information collections will be used to improve customer service standards. VHA will consult with OMB regarding each specific information collection during this approval period.

Send comments and recommendations concerning any aspect of the information collection to VA's OMB Desk Officer, Allison Eydt, OMB Human Resources and Housing Branch, New Executive Office Building, Room 10235, Washington, DC 20503 (202) 395-4650. Please refer to “OMB Control No. 2900-0227” in any correspondence.

Dated: April 25, 2000.
By direction of the Secretary.
Sandra McIntyre,
Management Analyst, Information Management Service.

[FR Doc. 00-12235 Filed 5-15-00; 8:45 am]

BILLING CODE 8320-01-P